DEPARTMENT OF THE INTERIOR

Bureau of Reclamation

[14XR0680A1, RX.00236101.0021000, RR04313000]

Notice of Intent To Prepare an Environmental Impact Statement and Announcement of Public Scoping Meetings for Continued Implementation of the 2008 Operating Agreement for the Rio Grande Project, New Mexico and Texas

AGENCY: Bureau of Reclamation, Interior.

ACTION: Notice of intent.

SUMMARY: The Bureau of Reclamation is issuing this notice to advise the public that an environmental impact statement (EIS) will be prepared for the proposed continued implementation of the 2008 Operating Agreement over its entire remaining term (through 2050) for the Rio Grande Project in New Mexico and Texas. The Operating Agreement is a written detailed description of how Reclamation allocates, releases from storage, and delivers Rio Grande Project water to users within the Elephant Butte Irrigation District (EBID) in New Mexico, the El Paso County Water Improvement District No. 1 (EPCWID) in Texas, and to users covered by the 1906 international treaty with Mexico. In addition, this EIS proposes to evaluate the environmental effects of renewing San Juan Chama Project storage contracts under authority of the Act of December 29, 1981, Pub. L. 97-140, 95 Stat. 1717, providing for storage in Elephant Butte Reservoir.

DATES: Comments on the scope of the EIS must be received by February 14, 2014.

Three public scoping meetings will be held to solicit public input on the scope of the EIS, potential alternatives, and issues to be addressed in the EIS. See the SUPPLEMENTARY INFORMATION section for meeting dates.

ADDRESSES: Written comments regarding the scope and content of the EIS should be sent to Ms. Rhea Graham, Bureau of Reclamation, Albuquerque Area Office, 555 Broadway NE., Suite 100, Mail Stop ALB-103, Albuquerque, New Mexico 87102, or provided via email at rgraham@usbr.gov.

Those not desiring to submit comments or suggestions at this time, but who would like to receive a copy of the EIS, should contact Ms. Graham using the information cited above. See the SUPPLEMENTARY INFORMATION section for locations of public scoping meetings.

FOR FURTHER INFORMATION CONTACT: Ms. Rhea Graham, Bureau of Reclamation; telephone 505-462-3560; email at rgraham@usbr.gov. Individuals who use a telecommunications device for the deaf may call the Federal Information Relay Service (FIRS) at 1-800-877-8339 to contact Ms. Graham during normal business hours. The FIRS is available 24 hours a day, 7 days a week, to leave a message or question with Ms. Graham. You will receive a reply during normal business hours.

SUPPLEMENTARY INFORMATION: Pursuant to the National Environmental Policy Act, Reclamation will serve as the lead federal agency for preparation of the EIS on the continued implementation of the Operating Agreement for the Rio Grande Project, New Mexico and Texas. The responsible official for this action is Reclamation's Upper Colorado Regional Director.

Background

The Rio Grande Project includes Elephant Butte and Caballo dams and reservoirs, a power generating plant, and five diversion dams (Percha, Leasburg, Mesilla, American, and International) located on the Rio Grande in New Mexico and Texas. The Rio Grande Project was authorized by Congress under the authority of the Reclamation Act of 1902 and the Rio Grande Project Act of February 25, 1905. The Rio Grande Project Operating Agreement was signed in 2008 to allocate Rio Grande Project water, which includes water stored in Elephant Butte and Caballo reservoirs and return flows to the Rio Grande between the EBID in the Rincon and Mesilla valleys of New Mexico and the EPCWID in the Mesilla and El Paso valleys of Texas and Mexico. The Rio Grande Project also provides water to Mexico under the 1906 international treaty. Rio Grande Project water is provided by Reclamation to irrigate a variety of crops and for municipal and industrial water uses.

Purpose and Need for Action

The purpose and need for action is to meet contractual obligations to EBID and EPCWID to implement a written set of criteria and procedures for allocating, delivering, and accounting for Rio Grande Project water to both districts consistent with their rights under applicable law each year in compliance with various court decrees, settlement agreements, and contracts. These include the 2008 Compromise and Settlement Agreement among Reclamation, EBID, and EPCWID, and contracts between the United States and the EBID and EPCWID. The purpose and need of an ancillary but potentially similar action is to implement the provisions of the Act of December 29, 1981, to allow the storage of San Juan-Chama project water acquired by contract with the Secretary of the Interior pursuant to Public Law 87-483 in Elephant Butte Reservoir.

Proposed Action

The proposed federal action is to continue to implement the 2008 Operating Agreement for the Rio Grande Project over the remaining term (through 2050), and a potentially similar action under 40 CFR 1508.25, to implement long-term contracts for storage of San Juan-Chama water in the Rio Grande Project.

Scoping Process

This notice initiates the scoping process which guides the development of the EIS. To ensure that the full range of issues related to this proposed action are addressed and all significant issues identified, comments and suggestions are invited from all interested parties. Comments or questions concerning this proposed action and the EIS should be directed to Reclamation using the contact information provided above. To be most effective, written comments should be received prior to the close of the comment period and should clearly articulate the commentor's concerns.

Dates and Addresses of Public Scoping Meetings

The scoping meeting dates and addresses are:

• Thursday, January 30, 2014, 3:00 p.m. to 5:00 p.m., Bureau of Reclamation, Albuquerque Area Office, 555 Broadway NE., Suite 100, Albuquerque, New Mexico 87102

• Friday, January 31, 2014, 6:00 p.m. to 8:00 p.m., Elephant Butte Irrigation District, 530 South Melendres Street, Las Cruces, New Mexico 88005

• Saturday, February 1, 2014, 9:00 a.m. to 11:00 a.m., Bureau of Reclamation, El Paso Field Division, 10737 Gateway West, Suite 350, El Paso, Texas 79935

Special Assistance for Public Scoping Meetings

If special assistance is required at the scoping meetings, please contact Ms. Graham at 505-462-3560 or email at rgraham@usbr.gov. Please notify Ms. Graham at least two weeks in advance of the meeting to enable Reclamation to secure the needed services. If a request cannot be honored, the requestor will be notified.

Public Disclosure

Before including your address, phone number, email address, or other personal identifying information in your comment, please be advised that your entire comment—including your personal identifying information—may be made publicly available at any time. While you can ask us in your comment to withhold your personal identifying information from public review, we cannot guarantee that we will be able to do so.

Dated: November 5, 2013.
Brent Rhees,
Deputy Regional Director—Upper Colorado Region, Bureau of Reclamation.

[FR Doc. 2014-00476 Filed 1-14-14; 8:45 am]

BILLING CODE 4310-MN-P